DEPARTMENT OF HOMELAND SECURITY

Federal Emergency Management Agency

[Docket ID FEMA-2008-0017]

Voluntary Private Sector Accreditation and Certification Preparedness Program

AGENCY: Federal Emergency Management Agency, DHS.

ACTION: Notice of closing date for public comments.

SUMMARY: The Department of Homeland Security (DHS) published a notice in the Federal Register on October 1, 2010, requesting comments on an initial small business plan to address small business concerns in the Voluntary Private Sector Accreditation and Certification Preparedness Program (PS-Prep Program). That notice did not contain a closing date for the comment period. This notice provides a closing date.

DATES: Submit comments on or before December 6, 2010.

ADDRESSES: DHS will review any comments received for small business considerations or the PS-Prep Program generally and, when merited, will publish a Federal Register notice providing the results of that review.

Those interested may submit comments, identified by Docket ID FEMA-2008-0017, by one of the following methods:

• Federal eRulemaking Portal: http://www.regulations.gov. Follow the instructions for submitting comments. (Note: This process applies to all government requests for comments—even though as in the case of the PS-Prep Program, they may not be for regulatory purposes.)

• Fax: 703-483-2999.

• Mail/Hand Delivery/Courier: Office of Chief Counsel, Federal Emergency Management Agency, 500 C Street, SW., Room 840, Washington, DC 20472-3100.

All submissions received must include the agency name and Docket ID FEMA-2008-0017. All submissions will be posted, without change, to the Federal eRulemaking Portal at http://www.regulations.gov, and will include any personal information you provide. Because comments are made available to the public, submitters should take caution to not include any sensitive, personal information, trade secret, or any commercial or financial information which is obtained from any person and which is deemed privileged or confidential. Submitters may wish to read the Privacy Act notice available on the Privacy Notice link located at the bottom of http://www.regulations.gov.

Docket: For access to the docket to read background documents or comments received, go to the Federal eRulemaking Portal at http://www.regulations.gov. Submitted comments may also be inspected at FEMA, Office of Chief Counsel, 500 C Street, SW., Room 840, Washington, DC 20472-3100.

FOR FURTHER INFORMATION CONTACT: Mr. Marcus Pollock, National Integration Center, Federal Emergency Management Agency, 500 C Street, SW., Washington, DC 20472-3100; phone: 202-646-2801; e-mail: FEMA-NIMS@dhs.gov.

SUPPLEMENTARY INFORMATION: On October 1, 2010, DHS published a notice in the Federal Register at 75 FR 60773 announcing an initial plan to address small business concerns in the PS-Prep Program. That notice (1) presented the plan for small business preparedness, and (2) invited public comment on the plan. However, the notice that published on October 1, 2010 did not include a closing date for the submission of public comments. This notice corrects that error by providing a closing date of December 6, 2010 for the submission of public comments.

Authority: 6 U.S.C. 321m(b)(2)(D).

Dated: October 22, 2010.
W. Craig Fugate,
Administrator, Federal Emergency Management Agency.

[FR Doc. 2010-27828 Filed 11-3-10; 8:45 am]

BILLING CODE 9111-46-P